AGENCY FOR INTERNATIONAL DEVELOPMENT

Privacy Act of 1974; System of Records

AGENCY: United States Agency for International Development.

ACTION: Altered system of records.

SUMMARY: Pursuant to the Privacy Act, 5 U.S.C. 552a, the United States Agency for International Development (USAID) is issuing public notice for an altered system of records entitled, “USAID-19 Travel and Transportation Records” last published at [42 FR 47382 (Sept. 20, 1977)]. This action is necessary to meet the requirements of the Privacy Act, 5 U.S.C. 522a(e)(4), to publish in the Federal Register notice of the existence and character of record systems maintained by the agency.

DATES: In accordance with 5 U.S.C. 522a(e)(4) and (11), the public is given a 30-day period in which to comment. Therefore, any comments must be received on or before January 29, 2015. Unless comments are received that would require a revision, this altered system of records will become effective on January 29, 2015.

ADDRESSES: You may submit comments:

Electronic

• Federal eRulemaking Portal: http://www.regulations.gov. Follow the instructions on the Web site for submitting comments.

• Email: privacy@usaid.gov.

Paper

• Fax: (703) 666-5670.

• Mail: Chief Privacy Officer, United States Agency for International Development, 1300 Pennsylvania Avenue NW., Washington, DC 20523.

FOR FURTHER INFORMATION CONTACT: The USAID Privacy Office at United States Agency for International Development, Bureau for Management, Office of the Chief Information Officer, Information Assurance Division, 1300 Pennsylvania Avenue NW., Washington, DC 20523; or via email at privacy@usaid.gov.

SUPPLEMENTARY INFORMATION: USAID has recently conducted a review of system of records notices and has determined that the notice for the system of records USAID-19 Travel and Transportation Records must be altered in order to reflect the current status of the system of records. USAID-19 is republished in full with all alterations, below.

Dated: November 20, 2014.
William Morgan,
Chief Privacy Officer, United States Agency for International Development.

USAID-19

SYSTEM NAME:

Travel and Transportation Records.

SYSTEM LOCATION:

United States Agency for International Development (USAID), 1300 Pennsylvania Avenue NW., Washington, DC 20523; Carlson Wagonlit facilities at several locations across the United States including Plymouth, NJ, Tulsa, OK, Chicago, IL, Phoenix, AZ, Omaha, NE, and Dallas, TX, and Austin, TX; U.S. Department of State, 2201 C Street NW., Washington, DC 20520; Global Financial Service Center (GFSC-DoS) 1969 Dyess Avenue, Building A, computer Room 2A228, Charleston, SC 29405; U.S. Department of State COOP Beltsville (BIMC), 8101 Odell Road, Floor/Room—173, Beltsville, MD 20705; and other USAID offices in the United States and throughout the world.

CATEGORIES OF INDIVIDUALS IN THE SYSTEM:

This system encompasses all individuals 1) whose travel is paid for by USAID; 2) whose the transportation of effects is paid for by USAID; and 3) who are USAID personnel and who travel on USAID business with United States diplomatic passports.

CATEGORIES OF RECORDS IN THE SYSTEM:

This system consists of records created for the purposes of providing travel and the transportation of household goods for employees of USAID and its Missions around the world, as well as travel to interviews for certain applicants for employment with USAID. Records include name; social security number; advance amount, date issued, and amount outstanding; travel authorizations and related payment vouchers; correspondence; itineraries; passport numbers; government bills of lading; government transportation requests; card files pertaining to passports, travel and shipment of effects; export/import permits; baggage declarations; customs declarations; passports and records of applications for visas; travel advance requests; arrival and departure notices; record of clearances prior to departure from the United States or posts abroad; packing lists and information on meetings abroad.

AUTHORITY FOR MAINTENANCE OF SYSTEM OF RECORDS:

5 U.S.C. 301, Departmental Regulations; 5 U.S.C. Ch. 57, Travel, Transportation, and Subsistence; 22 U.S.C. Ch. 32, Foreign Assistance, Subchapter I, International Development; 22 U.S.C. 4081, Travel and Related Expenses.

PURPOSE(S):

Records in this system may be used: (1) To manage the centralized USAID relocation and travel of USAID employees and their dependents; (2) To facilitate move requests of USAID employees and their dependents; (3) To manage worldwide logistics services and integrated support for the transportation of the effects of USAID employees and their dependents; (4) To ensure fiscal accountability in transporting the effects of USAID employees and their dependents; (5) To facilitate passport issuance and compliance; and (6) To assist in substantiating a claim for missing or damaged household effects.

ROUTINE USES OF RECORDS MAINTAINED IN THE SYSTEM, INCLUDING CATEGORIES OF USERS AND PURPOSES OF SUCH USE:

In addition to those disclosures generally permitted under 5 U.S.C. 552a(b), all or a portion of the records contained in this system of records may be disclosed outside USAID as a routine use pursuant to 5 U.S.C. 552a(b)(3) as follows:

(1) To the U.S. Department of the Treasury for the purposes of payment of claims.

(2) To commercial travel, transportation and shipping companies and agents for the purposes of making travel and transportation arrangements.

(3) To U.S. Dispatch Agents for the purposes of arranging shipment and clearance of effects.

(4) To the General Services Administration and the Office of Management and Budget for the purposes of periodic reporting required by statute regulations, and/or Executive order. Information provided is in the form of listings, reports, and records of all transportation and travel related transactions, including refunds and adjustments, by the contractor, to enable audits of transportation and travel related charges to the Government.

(5) To a court, magistrate, or other administrative body in the course of presenting evidence, including disclosures to counsel or witnesses in the course of civil discovery, litigation, or settlement negotiations or in connection with criminal proceedings, when USAID is a party to the proceeding or has a significant interest in the proceeding, to the extent that the information is determined to be relevant and necessary.

(6) To the Department of Justice or other appropriate United States Government Agency when the records are arguably relevant to a proceeding in a court or other tribunal in which USAID or a USAID official in his or her official capacity is a party or has an interest, or when the litigation is likely to affect USAID.

(7) In the event of an indication of a violation or potential violation of law, whether civil, criminal or regulatory in nature, and whether arising by statute or particular program pursuant thereto, to the appropriate agency, whether federal, state, local or foreign, charged with the responsibility of investigating or prosecuting such violation or charged with enforcing or implementing the statute, or rule, regulation, or order issued pursuant thereto.

(8) To the Department of State and its posts abroad for the purpose of transmission of information between organizational units of USAID, or for purposes related to the responsibilities of the Department of State in conducting United States foreign policy or protecting United States citizens, such as the assignment of employees to positions abroad, the reporting of accidents abroad, ensuring fiscal accountability in transporting the effects personnel stationed at embassies, evacuation of employees and dependents, and other purposes for which officers and employees of the Department of State have a need for the records in the performance of their duties.

(9) To a foreign government or international agency in response to its request for information to facilitate the conduct of U.S. relations with that government or agency through the issuance of such documents as visas, country clearances, identification cards, drivers' licenses, diplomatic lists, licenses to import or export personal effects, and other official documents and permits routinely required in connection with the official service or travel abroad of the individual and his or her dependents.

(10) To Shipping Contractors limited information is provided, such as delivery address and telephone number, for the purposes of providing shipping services.

(11) To Federal agencies with which USAID has entered into an agreement to provide services to assist USAID in carrying out its functions under the Foreign Assistance Act of 1961, as amended. Such disclosures would be for the purpose of transmission of information between organizational units of USAID; of providing to the original employing agency information concerning the services of its employee while under the supervision of USAID, including performance evaluations, reports of conduct, awards and commendations, and information normally obtained in the course of personnel administration and employee supervision; or of providing other information directly related to the purposes of the inter-agency agreement as set forth therein, and necessary and relevant to its implementation.

(12) To appropriate officials and employees of a federal agency or entity when the information is relevant to a decision concerning the hiring, appointment, or retention of an employee; the assignment, detail or deployment of an employee; the issuance, renewal, suspension, or revocation of a security clearance; the execution of a security or suitability investigation; the letting of a contract; or the issuance of a grant or benefit.

(13) To the National Archives and Records Administration for the purposes of records management inspections conducted under the authority of 44 U.S.C. 2904 and 2906.

(14) To a former employee of USAID for purposes of responding to an official inquiry by a federal, state, or local government entity or professional licensing authority, in accordance with applicable agency regulations; or facilitating communications with a former employee that may be necessary for personnel-related or other official purposes where the agency requires information and/or consultation assistance from the former employee regarding a matter within that person's former area of responsibility.

(15) To appropriate agencies, entities, and persons when (1) USAID suspects or has confirmed that the security or confidentiality of information in the system of records has been compromised; (2) USAID has determined that as a result of the suspected or confirmed compromise there is a risk of harm to economic or property interests, identity theft or fraud, or harm to the security or integrity of this system or other systems or programs (whether maintained by the USAID or another Agency or entity) that rely upon the compromised information; and (3) the disclosure made to such agencies, entities, and persons is reasonably necessary to assist in connection with USAID's efforts to respond to the suspected or confirmed compromise and prevent, minimize, or remedy such harm.

POLICIES AND PRACTICES FOR STORING, RETRIEVING, ACCESSING, RETAINING, AND DISPOSING OF RECORDS IN THE SYSTEM:

STORAGE:

Records in this system are stored on paper and/or electronic form; and are maintained in locked cabinets and/or user-authenticated, password-protected systems. Records that contain national security information and are classified are stored in accordance with applicable executive orders, statutes, and agency implementing regulations.

RETRIEVABILITY:

Records are retrieved by the names of the individuals about whom they are maintained.

SAFEGUARDS:

Information in this system is safeguarded in accordance with applicable laws, rules and policies, including the agency's automated directive system. In general, records are maintained in buildings with restricted access. The required use of password protection identification features and other system protection methods also restrict access. Paper records and Sensitive But Unclassified records are kept in an approved security container at the USAID Washington headquarters, and at the relevant locations where USAID has a program. The electronic records are stored in the End to End Travel Solutions (E2E) system, the Integrated Logistics Management System (ILMS), and the Phoenix Financial Management System, which are safeguarded in accordance with applicable laws, rules, and policies, including USAID's automated systems security and access policies. Access to the records is restricted to the individual for their own information and to those authorized USAID personnel and authorized contractors who have an official need to access the records in the performance of their official duties.

RETENTION AND DISPOSAL:

Records are retained and disposed of in accordance with disposition schedules approved by USAID and the National Archives and Records Administration.

SYSTEM MANAGER(S) AND ADDRESS:

Chief, Travel and Transportation Division, Management Services Office, Bureau for Management, United States Agency for International Development, 1300 Pennsylvania Avenue NW., Washington, DC 20523-2120.

NOTIFICATION PROCEDURE:

Same as Record Access Procedures.

RECORDS ACCESS PROCEDURES:

Under the Privacy Act, individuals may request access to records about themselves. If an agency or a person, who is not the individual who is the subject of the records, requests access to records about an individual, the written consent of the individual who is the subject of the records is required.

Requesters may submit requests for records under the Privacy Act: 1) by mail to the USAID FOIA Office, Bureau for Management, Office of Management Services, Information and Records Division, 1300 Pennsylvania Avenue NW., Room 2.07C—RRB, Washington, DC 20523-2701; 2) via Facsimile to 202-216-3070; 3) via email to foia@usaid.gov; 4) on the USAID Web site at www.usaid.gov/foia-requests; or 5) in person during regular business hours at USAID, 1300 Pennsylvania Avenue NW., Washington, DC 20523-2701, or at USAID overseas missions.

Requesters using 1 through 4 may provide a written statement or may complete and submit USAID Form 507-1, Freedom of Information/Privacy Act Record Request Form, which can be obtained: a) On the USAID Web site at www.usaid.gov/foia -requests; b) by email request to foia@usaid.gov; or c) by writing to the USAID FOIA Office, Bureau for Management, Office of Management Services, Information and Records Division, 1300 Pennsylvania Avenue NW., Room 2.07C—RRB, Washington, DC 20523-2701, and provide information that is necessary to identify the records, including the following: Requester's full name; present mailing address; home telephone; work telephone; name of subject, if other than requester; requester relationship to subject; description of type of information or specific records; and purpose of requesting information. Requesters should provide the system of record identification name and number, if known; and, to facilitate the retrieval of records contained in those systems of records which are retrieved by Social Security Numbers, the Social Security Number of the individual to whom the record pertains.

In addition, requesters using 1 through 4 must include proof of identity information by providing copies of two (2) source documents that must be notarized by a valid (un-expired) notary public. Acceptable proof-of-identity source documents include: an unexpired United States passport; Social Security Card (both sides); unexpired United States Government employee identity card; unexpired driver's license or identification card issued by a state or United States possession, provided that it contain a photograph; certificate of United States citizenship; certificate of naturalization; card showing permanent residence in the United States; United States alien registration receipt card with photograph; United States military card or draft record; or United States military dependent's identification card.

Requesters using 1 through 4 must also provide a signed and notarized statement that they are the person named in the request; that they understand that any falsification of their statement is punishable under the provision of 18 U.S.C. 1001 by a fine, or by imprisonment of not more than five years or, if the offense involves international or domestic terrorism (as defined in section 2331), imprisonment of not more than eight years, or both; and that requesting or obtaining records under false pretenses is punishable under the provisions of 5 U.S.C. 552a(i)(3) as a misdemeanor and by a fine of not more than $5,000.

Requesters using 5 must provide such personal identification as is reasonable under the circumstances to verify the requester's identity, including the following: an unexpired United States passport; Social Security Card; unexpired United States Government employee identity card; unexpired driver's license or identification card issued by a state or United States possession, provided that it contain a photograph; certificate of United States citizenship; certificate of naturalization; card showing permanent residence in the United States; United States alien registration receipt card with photograph; United States military card or draft record; or United States military dependent's identification card.

CONTESTING RECORDS PROCEDURES:

Individuals seeking to contest or amend records maintained on himself or herself must clearly and concisely state that information is being contested, and the proposed amendment to the information sought. Requests to amend a record must follow the Record Access Procedures above.

RECORDS SOURCE CATEGORIES:

Sources of records include individuals whose travel and transportation of effects are paid by USAID and its Missions; and USAID officials and employees involved in the travel and transportation of household goods.

EXEMPTIONS CLAIMED FOR THE SYSTEM:

None.

[FR Doc. 2014-30289 Filed 12-29-14; 8:45 am]

BILLING CODE 6116-02-P